DEPARTMENT OF DEFENSE

Office of the Secretary

[Transmittal Nos. 14-30]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-30 with attached transmittal, policy justification, and Sensitivity of Technology.

Dated: July 8, 2014.
Aaron Siegel,
Alternate OSD Federal Register Liaison Officer, Department of Defense.

BILLING CODE 5001-06-P

Transmittal No. 14-30

Notice of Proposed Issuance of Letter of Offer Pursuant to Section 36(b)(1) of the Arms Export Control Act, as amended

(i) Prospective Purchaser: United Kingdom

(ii) Total Estimated Value:

Major Defense Equipment* | $140 million
Other | $0 million
Total | $140 million
* As defined in Section 47(6) of the Arms Export Control Act.

(iii) Description and Quantity or Quantities of Articles or Services under Consideration for Purchase: Up to 65 Block IV All-Up-Round Torpedo Tube Launched Tomahawk Land-Attack Missiles, containers, engineering support, test equipment, operational flight test support, communications equipment, technical assistance, personnel training/equipment, spare and repair parts, and other related elements of logistics support.

(iv) Military Department: Navy (AHS)

(v) Prior Related Cases:

FMS case AGS-$154M-16Oct95

FMS case AHA-$32M-01Sep99

FMS case AHE-$36M-14Dec01

FMS case AHJ-$157M-29Mar04

FMS case GWY-$6M-21Jan00

FMS case GYU-$33M-21Jan02

FMS case LIS-$49M-18Jan04

FMS case GXQ-$91M-21Dec00

FMS case GEK-$122M-20Feb08

FMS case FAY-$165M-12Dec13

(vi) Sales Commission, Fee, etc., Paid, Offered, or Agreed to be Paid: None

(vii) Sensitivity of Technology Contained in the Defense Article or Defense Services Proposed to be Sold: See Annex attached.

(viii) Date Report Delivered to Congress: 1 July 2014

POLICY JUSTIFICATION

United Kingdom—Tomahawk Block IV Torpedo Launched Land-Attack Missiles

The United Kingdom (UK) has requested a possible sale of up to 65 Block IV All-Up-Round Torpedo Tube Launched Tomahawk Land-Attack Missiles, containers, engineering support, test equipment, operational flight test support, communications equipment, technical assistance, personnel training/equipment, spare and repair parts, and other related elements of logistics support. The estimated cost is $140 million.

This proposed sale will contribute to the foreign policy and national security of the United States by improving the military capabilities of the United Kingdom and enhancing weapon system standardization and interoperability. The UK is a major political and economic power and a key democratic partner of the U.S. in ensuring peace and stability around the world.

The UK needs these missiles to replenish those expended in support of coalition operations. The proposed sale will enhance the UK's ability to engage in coalition operations along with the U.S. Navy. The UK, which already has Tomahawk missiles in its inventory, will have no difficulty absorbing these additional missiles.

The proposed sale of these missiles will not alter the basic military balance in the region.

The principal contractor will be Raytheon Missile Systems Company in Tucson, Arizona. There are no known offset agreements proposed in connection with this potential sale.

Implementation of this proposed sale will not require the assignment of additional U.S. Government or contractor personnel in the United Kingdom.

There will be no adverse impact on U.S. defense readiness as a result of this proposed sale.

Transmittal No. 14-30

Notice of Proposed Issuance of Letter of Offer Pursuant to Section 36(b)(1) Of the Arms Export Control Act

Annex

Item No. vii

(vii) Sensitivity of Technology:

1. The conventionally armed Tomahawk Block IV Land Attack Missile consists of the following classified components: Operational Embedded Software (OES), Weapons Control System Software and Mission Planning Software.

2. If a technologically advanced adversary were to obtain knowledge of the specific hardware and software elements, the information could be used to develop countermeasures that might reduce weapon system effectiveness or be used in the development of a system with similar advanced capabilities.

3. A determination has been made that the recipient government can provide substantially the same degree of protection for the technology being released as the U.S. Government. Support of the Tomahawk Land Attack Missile Conventional System to the Government of the United Kingdom is necessary in the furtherance of U.S. foreign policy and national security objectives.

4. All defense articles and services listed in this transmittal have been authorized for release and export to the Government of the United Kingdom.

[FR Doc. 2014-16353 Filed 7-11-14; 8:45 am]

BILLING CODE 5001-06-C